U.S.-CHINA ECONOMIC AND SECURITY REVIEW COMMISSION

Notice of Open Public Hearing; Correction

AGENCY: U.S.-China Economic and Security Review Commission.

ACTION: Notice; correction.

SUMMARY: The U.S.-China Commission published a document in the Federal Register on March 24, 2015, concerning notice of an open public hearing to be held in Washington, DC to inform production of the Commission's 2015 Annual Report to Congress. The background section and room number for this meeting has changed.

FOR FURTHER INFORMATION CONTACT: Rickisha Berrien-Lopez, 202-624-1454.

Corrections

Background: This is the fourth public hearing the Commission will hold during its 2015 report cycle to collect input from academic, industry, and government experts on national security implications of the U.S. bilateral trade and economic relationship with China. This hearing will explore the advancement of China's offensive missile forces—both conventional and nuclear—and security implications for the United States. The hearing will be co-chaired by Vice Chairman Dennis Shea and Commissioner Katherine Tobin Ph.D. Any interested party may file a written statement by April 1, 2015, by mailing to the contact below. A portion of each panel will include a question and answer period between the Commissioners and the witnesses.

Location, Date and Time: Room SD-562, Dirksen Senate Office Building.

Michael Danis,
Executive Director, U.S.-China Economic and Security Review Commission.

[FR Doc. 2015-07261 Filed 3-30-15; 8:45 am]

BILLING CODE 1137-00-P